DEPARTMENT OF THE INTERIOR

Bureau of Indian Affairs

[234A2100DD/AAKC001030/A0A501010.999900]

Fiscal Year 2023 List of Programs Eligible for Inclusion in Funding Agreements Negotiated With Self-Governance Tribes by Interior Bureaus Other Than the Bureau of Indian Affairs; Fiscal Year 2024 Programmatic Targets

AGENCY: Office of the Secretary, Interior.

ACTION: Notice.

SUMMARY: This notice lists: fiscal year 2024 programmatic targets for each of the non-Bureau of Indian Affairs (BIA) bureaus in the Department of the Interior (Department), pursuant to title IV of the Act, as amended, and list of fiscal year 2023 programs or portions of programs eligible for inclusion in self-governance funding agreements with Indian Tribes. Revisions to this list are based upon feedback received during Tribal Consultations held in January 2023 on what information would be most helpful to Indian Tribes seeking ways to develop collaborative arrangements in the co-stewardship of Federal lands and waters.

DATES: Programs on this list are eligible for inclusion in self-governance funding agreements until September 30, 2024.

ADDRESSES: Inquiries or comments regarding this notice may be directed to the bureau-specific points of contact listed below.

FOR FURTHER INFORMATION CONTACT: Contacts from the following bureaus and offices are available to answer questions:

• Office of Self Governance: Vickie Hanvey, Program Policy Analyst, Office of Self Governance; telephone: (918) 931-0745; email: vickie.hanvey@bia.gov.

• Bureau of Land Management: Byron Loosle, Division Chief for National Conservation Lands; telephone: (202) 302-1442; email: bloosle@blm.gov.

• Bureau of Reclamation: Mr. Kelly Titensor, Native American Affairs Advisor; telephone: (202) 513-0558; email: ktitensor@usbr.gov.

• Office of Natural Resources Revenue: Bethany Hagen-Templin, Tribal Liaison Officer; telephone: 303-231-3667; email: onrrtriballiaisonofficer@onrr.gov.

• National Park Service: Dorothy FireCloud, Native American Affairs Liaison; telephone: (202) 354-2090; email: dorothy_firecloud@nps.gov.

• U.S. Fish and Wildlife Service: Scott Aikin, National Native American Programs Coordinator; telephone:(202) 285-3411; email: scott_aikin@fws.gov.

• U.S. Geological Survey: Chris Hammond, Head, Office of Tribal Relations: telephone: (703) 648-6621; email: chammond@usgs.gov.

• Bureau of Trust Funds Administration: Lee Frazier, Program Analyst; telephone: (202) 208-7587; email: lee_frazier@btfa.gov.

• Appraisal and Valuation Services Office (AVSO): Eldred F. Lesansee, Associate Deputy Director, Office of Tribal Sovereignty; telephone: (505) 414-3805; email: eldred_lesansee@ios.doi.gov.

Alternatively, inquiries may also be submitted by mail to: Director, Office of Self Governance, 1849 C Street NW—3624 MIB. U.S. Department of the Interior, Washington, DC 20240.

SUPPLEMENTARY INFORMATION: Title IV of the Indian Self-Determination and Education Assistance Act (Act), Public Law 93-638, instituted a permanent self-governance program for each of the Department bureaus other than the BIA. Under the self-governance program, certain programs, services, functions, and activities, or portions thereof, in Department bureaus other than the BIA are eligible to be planned, conducted, consolidated, and administered by a self-governance Tribe.

Section 412(c) of the Act requires the Secretary of the Interior (Secretary) to annually publish a list of, and programmatic targets for, non-BIA programs, services, functions, and activities, or portions thereof, that are eligible for inclusion in agreements negotiated under the self-governance program.

I. Background

Two kinds of non-BIA programs are eligible for self-governance funding agreements. section 403(b)(2) of the Act provides that any non-BIA program, service, function, or activity that is administered by the Department that is “otherwise available to Indian tribes or Indians” can be administered by a Tribe through a self-governance funding agreement. The Department interprets this provision to authorize the inclusion of programs eligible for self-determination contracts under title I of the Act. Section 403(b)(2) also specifies, “nothing in this subsection may be construed to provide any tribe with a preference with respect to the opportunity of the tribe to administer programs, services, functions, and activities, or portions thereof, unless such preference is otherwise provided for by law.” Section 403(c) of the Act adds that the Secretary may include other programs, services, functions, and activities or portions thereof that are of “special geographic, historical, or cultural significance” to a participating self-governance Tribe. Subpart G of the self-governance regulations (25 CFR 1000) provides the process and timelines for negotiating self-governance funding agreements with non-BIA bureaus.

Section 403(k) of the Act provides that funding agreements may not include programs, services, functions, or activities that are inherently Federal or where the statute establishing the existing program does not authorize the type of participation sought by the Tribe. However, an Indian Tribe (or Tribes) need not be identified in the authorizing statutes in order for a program or element of a program to be included in a self-governance funding agreement. While general legal and policy guidance regarding what constitutes an inherently Federal function exists, the non-BIA bureaus will determine whether a specific function is inherently Federal on a case-by-case basis considering the totality of circumstances.

II. Principles Governing Non-BIA Self-Governance Programs Eligible for Inclusion in Self-Governance Funding Agreements

In January 2023, the Assistant Secretary—Indian Affairs held three Tribal Consultations on what information would be most helpful to Indian Tribes seeking ways to develop collaborative arrangements in the co-stewardship of Federal lands and waters. The Department received three oral comments and two written comments:

• Two of the oral comments asked for the location of the list of non-BIA programs. This Federal Register constitutes the Department's listing of eligible programs. The Department welcomes feedback on ways in which the list may be further improved. The final oral comment asked that any future list identify all non-BIA programs which may be eligible for integration into a Tribal plan under Public Law 102-477. The Department is unable to determine whether implementation of a non-BIA program in a specific instance would meet the purposes set forth in 25 U.S.C. 3404(a)(1)(A), before a Tribe proposes integration. Nevertheless, the Department is firmly committed to promoting Tribal sovereignty through the integration of programs and funds from the Department of the Interior in a Tribal plan under Public Law 102-477, including from non-BIA programs.

• The first written comment was from the Department's Appraisal and Valuation Services Office (AVSO). That comment shared that one Tribe has assumed AVSO's operations, that AVSO has not experienced significant growth of Tribes contracting, and that AVSO believes additional guidance on the principles governing contracting, self-governance agreements, and compacting under the Act should be included in the List.

• The second written comment was from a Tribe and asked that agencies strive for consensus with Tribes and a mutually desired outcome. The Tribal comment also asks that the List include all current and expired contracts and compacts, establish a searchable database of all funding agreements and compacts, designate self-governance contacts in all Department bureaus, and create a guidance document for non-BIA self-governance programs.

Based on feedback from Consultation, the Department includes in this year's Federal Register Notice general guidance on principles governing non-BIA self-governance programs eligible for inclusion in self-governance funding agreements. As a foundational matter, self-governance compacts may include federal programs, services, functions, or activities administered by the Department other than through the Bureau of Indian Affairs that are otherwise available to Indian tribes or Indians. Self-governance compacts may also include other programs, services, functions, and activities, or portions thereof which are of special geographic, historical, or cultural significance to the participating Indian tribe requesting a compact. The Department has interpreted this language as granting the government discretion to fund programs that may coincidentally benefit Indians but that are national in scope and are not by definition programs for the benefit of Indians because of their status as Indians.

Pursuant to S.O. 3403, the Departments' agencies have a directive to facilitate agreements with Tribes to collaborate in the co-stewardship of Federal lands and waters and to strengthen Tribal homelands. Pursuant to Executive Order 13175, the Department supports Tribal sovereignty and self-determination, and encourages Indian Tribes to develop their own policies to achieve the objectives of the Act for non-BIA Programs. Where possible, the Department will defer to Indian Tribes to establish standards for non-BIA Programs. Together, these policy documents demonstrate, and the Department reiterates, a desire to further inclusion of non-BIA programs in self-governance funding agreements.

III. Programmatic Target for Fiscal Year 2024

The programmatic target for fiscal year 2024 provides that, upon request of a self-governance Tribe, each non-BIA bureau will negotiate funding agreements for its eligible programs beyond those already negotiated.

Self-governance compacts may include programs, services, functions, or activities administered by the Department other than through the BIA that are otherwise available to Indian tribes or Indians and may also include other programs, services, functions, and activities, or portions thereof, administered by the Secretary of the Interior which are of special geographic, historical, or cultural significance to the participating Indian tribe requesting a compact. This grants the Department the discretion to fund programs that may coincidentally benefit Indians but that are national in scope and are not by definition programs for the benefit of Indians because of their status as Indians.

This section lists by bureau examples of the types of non-BIA programs, or portions thereof, that may be eligible for self-governance funding agreements because they are either “otherwise available to Indians” under title I of the Act and not precluded by any other law, or that may have “special geographic, historical, or cultural significance” to a participating Tribe. The list represents examples of the programs that may be available to Tribes under a self-governance funding agreement, and is neither complete, exhaustive, nor indicative of a final determination on any program.

The Department may include in funding agreements other programs or activities not listed below which, upon request of a self-governance Tribe, the Department determines to be eligible under either sections 403(b)(2) or 403(c) of the Act. Tribes interested in doing so are encouraged to begin discussions with the appropriate non-BIA bureau.

The Secretary of the Interior, the Secretary of Agriculture, and the Secretary of Commerce have issued Joint Secretarial Order No. 3403 on fulfilling the trust responsibility to Tribes in the stewardship of Federal lands and waters. Pursuant to S.O. 3403, the Department is committed to facilitating agreements with Tribes for the collaborative and cooperative stewardship of Federal lands and waters.

A. Eligible Bureau of Land Management Programs

Congress tasked the Bureau of Land Management (BLM) with a mandate of managing public lands for a variety of uses such as energy development, livestock grazing, recreation, and timber harvesting while ensuring natural, cultural, and historic resources are maintained for present and future use. BLM carries out some of its public land management activities through contracts and cooperative agreements. These and other activities may be available for inclusion in self-governance funding agreements depending upon availability of funds, the need for specific services, and the self-governance Tribe's demonstration of a special geographic, cultural, or historical significance. Tribes may obtain further information on specific activities that may be available for inclusion in a self-governance funding agreement from the relevant BLM State office.

Some elements of the following non-exclusive list of BLM programs may be eligible for inclusion in a self-governance funding agreement:

• Minerals Management Inspection, Enforcement, and Production. Verification of Indian coal and sand and gravel operations is already available for contracting under title I of the Act and, therefore, may be available for inclusion in a funding agreement. In addition, in a study conducted pursuant to Secretarial Order 3377, the Department of the Interior Office of the Solicitor determined that the following functions are available for inclusion in a funding agreement: inspection and enforcement of Indian oil and gas operations; determining trust land locations; approving applications for permits to drill; securing and enforcing bonds (for surface of spill estate); and providing mineral assessments and valuation;

• Cadastral Survey. Tribal and allottee cadastral survey services are already available for contracting under title I of the Act and, therefore, may be available for inclusion in a funding agreement;

• Cultural Heritage. Cultural heritage activities such as research and inventory may be available in specific States;

• Natural Resources Management. Activities such as silvicultural treatments, timber management, cultural resource management, watershed restoration, environmental studies, tree planting, and tree thinning may be available in specific States;

• Range Management. Activities such as revegetation, noxious weed control, fencing, construction and management of range improvements, grazing management experiments, and range monitoring may be available in specific States;

• Riparian Management. Activities such as facilities construction, erosion control, and rehabilitation may be available in specific States;

• Recreation Management. Activities such as facilities construction and maintenance, and interpretive design and interpretive construction, and similar activities may be available in specific States;

• Wildlife and Fisheries Habitat Management. Activities such as construction and maintenance; implementation of statutory, regulatory, and policy or administrative plan-based species protection; and interpretive design and construction and similar activities may be available in specific States; and

• Wild Horse Management. Activities such as wild horse roundups, adoption, and disposition, including operation and maintenance of wild horse facilities, may be available in specific States.

B. Eligible Bureau of Reclamation Programs

The mission of the Bureau of Reclamation (Reclamation) is to manage, develop, and protect water and related resources in an environmentally and economically sound manner in the interest of the American public. Reclamation water resources projects provide water for agricultural, municipal, and industrial water supplies use; hydroelectric power generation; flood control; enhancement of fish and wildlife habitats; and outdoor recreation. To this end, most of Reclamation's activities involve the construction, operation, maintenance, and management of water resources projects and associated facilities, as well as research and development related to Reclamation's responsibilities. Upon the request of a self-governance Tribe, Reclamation will consider including programs or activities which Reclamation determines to be eligible under section 403(b)(2) or 403(c) of the Act in self-governance funding agreements.

Some elements of the following non-exclusive list of Reclamation water resource projects, which was developed with consideration of their proximity to identified self-governance Tribes, may be eligible for inclusion in a self-governance funding agreement:

• Klamath Project, California and Oregon;

• Trinity River Fishery, California;

• Central Arizona Project, Arizona; and

• Indian Water Rights Settlement Projects, as authorized by Congress.

C. Eligible Office of Natural Resources Revenue Programs

The Office of Natural Resources Revenue (ONRR) collects, accounts for, verifies, and distributes mineral revenues from both Federal and Indian mineral leases. ONRR also evaluates industry compliance with laws, regulations, and lease terms, and offers mineral-owning Tribes opportunities to become involved in ONRR programs that address the intent of Tribal self-governance, providing self-governance Tribes with good preparation for assuming other technical functions. ONRR program functions are generally available to Tribes pursuant to the Federal Oil and Gas Royalty Management Act of 1983 (FOGRMA; 30 U.S.C. 1701 et seq.).

The following ONRR program functions may be eligible for inclusion in a self-governance funding agreement:

• Audit of Tribal Royalty Payments. Audit activities for Tribal leases, except for the issuance of orders, final valuation decisions, and other enforcement activities. (This program is offered as an option for Tribes already participating in ONRR cooperative audits);

• Verification of Tribal Royalty Payments. Financial compliance verification, monitoring activities, and production verification;

• Tribal Royalty Reporting, Accounting, and Data Management. Establishment and management of royalty reporting and accounting systems, including document processing, production reporting, reference data (lease, payor, agreement) management, billing, and general ledger;

• Tribal Royalty Valuation. Preliminary analysis and recommendations for valuation, and allowance determinations and approvals; and

• Royalty Internship Program. An orientation and training program for auditors and accountants from mineral-producing Tribes to acquaint Tribal staff with royalty laws, procedures, and techniques. This program is recommended for Tribes that are considering a self-governance funding agreement but have not yet acquired mineral revenue expertise via a 30 U.S.C. 1732 cooperative agreement (FOGRMA; Pub. L. 97-451, section 202), as this term is defined in FOGRMA and implementing regulations at 30 CFR 228.4.

D. Eligible National Park Service Projects

The mission of the National Park Service (NPS) is to preserve the unimpaired natural and cultural resources and values of the National Park System for the enjoyment, education, and inspiration of this and future generations.

The NPS administers the National Park System, which provides resource park management technical, operational, and training assistance to Tribal Governments. NPS consists of 420+ national parks, monuments, historic sites, battlefields, seashores, lake shores and recreation areas. NPS units protect natural and cultural resources on these Federal lands and conduct a range of visitor services such as law enforcement, park maintenance, and interpretation of geology, history, and natural and cultural resource management.

NPS projects listed below may be eligible for inclusion in a self-governance funding agreement. Proximity to an NPS unit is not a barrier for entering into such an agreement and should be based on shared stewardship goals where associated Tribal interests are shared with unit operations. All NPS units sit on Indigenous homelands and bear Indigenous interests and unique oral histories.

The list below is not all inclusive, but is representative of the types of elements of projects which may be eligible for Tribal participation through self-governance funding agreements:

• Archaeological Surveys

• Climate Change Planning, Mitigation, and Adaptation Projects

• Comprehensive Management Planning

• Cultural Landscape Study and Maintenance

• Cultural Resource Management Projects

• Ethnographic Studies

• Erosion Control

• Fire Protection and Training

• Post-Fire Stabilization and Rehabilitation Projects

• Gathering Baseline Subsistence Data—Alaska

• Hazardous Fuel Reduction

• Housing Construction and Rehabilitation

• Interpretation and Education—to Include Programs, Signage, Vendors, Demonstrations, Multi-Media

• Interpreting Tribal History

• Janitorial Services

• Preservation and Perpetuation of Language & Tribal Lifeways

• Maintenance

• Management and Care of Museum Collections

• Natural Resource Management Projects

• Operation and Maintenance of Campgrounds, Serpentine, Marinas, and Other Administrative Facilities

• Preservation and Sharing of Cultural and Indigenous Knowledge

• Range Assessment—Alaska

• Reindeer Grazing—Alaska

• Road and Trail Maintenance, Repairs, and Upgrades

• Shelter Cabin Maintenance and Upgrades

• Solid Waste Collection and Disposal

• Trail Construction and Rehabilitation

• Visitor Center services

• Youth Projects

• Watershed Assessments, Restoration and Maintenance

• Beringia Research

• Elwha and Other River Restoration Projects

• Recycling Projects

• Visitor Center Services

• Historic Preservation Activities

Self-governance Tribes associated to the various NPS system units can begin the process by writing a letter of interest to the respective Park Superintendent.

E. Eligible U.S. Fish and Wildlife Service Programs

The mission of the U.S. Fish and Wildlife Service (Service) is to conserve, protect, and enhance fish, wildlife, and their habitats for the continuing benefit of the American people. The Service's primary responsibilities involve migratory birds, endangered species, freshwater and anadromous fisheries, and certain marine mammals. The Service has continuing cooperative relationships with several Indian Tribes regarding the National Wildlife Refuge System and the Service's fish hatcheries. Any self-governance Tribe may contact a national wildlife refuge or national fish hatchery directly concerning participation in Service programs under the Tribal Self-Governance Act.

The following non-exclusive list of Service programs is representative of the types of programs that may be eligible for inclusion in a self-governance funding agreement:

• Subsistence programs within the State of Alaska. Evaluate and analyze data for annual subsistence regulatory cycles and other data trends related to subsistence harvest needs and facilitate Tribal Consultation to ensure that title VII terms of the Alaska National Interest Lands Conservation Act (ANILCA; Pub. L. 96-487) are being met, as well as activities fulfilling the terms of title VIII of ANILCA;

• Technical Assistance, Restoration, and Conservation. Conduct planning and implementation of population surveys, habitat surveys, restoration of sport fish, capture of depredating migratory birds, and habitat restoration activities;

• Endangered Species Programs. Conduct activities associated with the conservation and recovery of threatened or endangered species protected under the Endangered Species Act (ESA; 16 U.S.C. 1531 et seq.) or candidate species under the ESA. These activities may include, but are not limited to, cooperative conservation programs, development of recovery plans and implementation of recovery actions for threatened and endangered species, and implementation of status surveys for high-priority candidate species;

• Education Programs. Provide services in interpretation, outdoor classroom instruction, visitor center operations, and volunteer coordination both on and off national wildlife refuge lands in a variety of communities and assist with environmental education and outreach efforts in local villages;

• Environmental Contaminants Program. Conduct activities associated with identifying and removing toxic chemicals, to help prevent harm to fish, wildlife, and their habitats. The activities required for environmental contaminant management may include, but are not limited to, analysis of pollution data, removal of underground storage tanks, specific cleanup activities, and field data gathering efforts;

• Wetland and Habitat Conservation Restoration. Provide services for construction, planning, and habitat monitoring and activities associated with conservation and restoration of wetland habitat;

• Fish Hatchery Operations. Conduct activities to recover aquatic species listed under the ESA, restore native aquatic populations, and provide fish to benefit national wildlife refuges and Tribes. Such activities may include, but are not limited to tagging, rearing, and feeding of fish; disease treatment; and clerical or facility maintenance at a fish hatchery; and

• National Wildlife Refuge Operations and Maintenance. Conduct activities to assist the National Wildlife Refuge System, a national network of lands and waters for conservation, management, and restoration of fish, wildlife and plant resources and their habitats within the United States. Activities that may be eligible for a self-governance funding agreement may include, but are not limited to construction, farming, concessions, maintenance, biological program efforts, habitat management, fire management, and implementation of comprehensive conservation planning.

F. Eligible U.S. Geological Survey Programs

The U.S. Geological Survey (USGS) is a scientific research bureau whose mission is to monitor, analyze, and predict current and evolving Earth-system interactions and deliver actionable information at scales and timeframes relevant to decision makers. This information is usually publicly available and includes reports, maps, databases, and descriptions and analyses of the water, plants, animals, energy, and mineral resources, land surface, underlying geologic structure, and dynamic processes of the earth. The USGS does not manage lands or resources. Self-governance Tribes may potentially assist the USGS in the data acquisition and analysis components of USGS's activities.

G. Eligible Bureau of Trust Funds Administration Programs

Secretarial Order 3384, authorized the establishment of the Bureau of Trust Funds Administration (BTFA) which reports to the Office of the Assistant Secretary—Indian Affairs. BTFA is responsible for the management (receipting, investing, disbursing, reconciling and reporting) of the monetary assets of American Indians held in trust by the Department of the Interior. BTFA also maintains the official archive of American Indian Records. This program safeguards millions of original historic documents that detail the Federal Government's treaty obligation to Native Americans.

A Tribe operating under self-governance may include the following programs, services, functions, and activities or portions thereof, in a funding agreement:

• Beneficiary Processes Program (Individual Indian Money Accounting Technical Functions). The memorandum of understanding (MOU) between the Tribe/Consortium and BTFA outlines the roles and responsibilities for the performance of the BTFA program by the Tribe/Consortium. If those roles and responsibilities are already fully specified in the existing funding agreement with the Office of Self-Governance (OSG), an MOU is not necessary. To the extent that the parties desire specific program standards, an MOU will be negotiated between the Tribe/Consortium and BTFA, which will be binding on both parties and attached and incorporated into the OSG funding agreement. If a Tribe/Consortium decides to assume the operation of a BTFA program, the new funding for performing that program will come from BTFA program dollars. A Tribe's newly assumed operation of the BTFA program(s) will be reflected in the Tribe's OSG funding agreement.

H. Eligible Appraisal and Valuation Services Office Programs

The mission of the Appraisal and Valuation Services Office (AVSO) is to provide credible, timely, and efficient valuation services to ensure the Department's fiduciary responsibilities are met for Tribes and beneficiaries in trust and restricted-fee real property transactions, and to uphold public trust in Federal real property transactions. AVSO provides appraisal, valuation, mineral evaluation, and real property consulting expertise to Indian beneficiaries, Federal clients, and other stakeholders in accordance with the highest professional and ethical standards and is responsible for all real property appraisal and valuation services within the Department of the Interior. AVSO is comprised of three regions (Western, Central and Eastern) serving all of Indian Country as well as all DOI bureaus, agencies and offices. AVSO's Mineral Evaluations Division is tasked with providing mineral assessments and evaluations for DOI.

These and other activities may be available for inclusion in self-governance funding agreements depending upon availability of funds, the need for specific services, and the self-governance Tribe's demonstration of a special geographic, cultural, or historical significance. Tribes may obtain further information on specific activities that may be available for inclusion in a self-governance funding agreement.

Some elements of the following non-exclusive list of AVSO programs, functions, services and activities may be eligible for inclusion in a self-governance funding agreement:

• Appraisal and valuation functions for Indian trust and restricted fee real property

• Appraisal review function for appraisals prepared for Departmental use

• Appraisal and valuation functions for Federal real property

• Appraisals and evaluation functions for Indian and Federal minerals

• Real property consultation services

The MOU between the Tribe/Consortium and AVSO outlines the roles and responsibilities for the performance of the AVSO program by the Tribe/Consortium. An MOU will be negotiated between the Tribe/Consortium and AVSO, which will be binding on both parties and attached and incorporated into the OSG funding agreement. If a Tribe/Consortium decides to assume the operation of an AVSO program, the new funding for performing that program will come from AVSO program dollars. A Tribe's newly-assumed operation of an AVSO program will be reflected in the Tribe's OSG funding agreement.

IV. Funding Agreements Between Self-Governance Tribes and Non-BIA Bureaus of the Department of the Interior for Fiscal Year 2023

This section provides information on the Tribes with which the Department of the Interior's non-BIA Bureaus have entered self-governance funding agreements for fiscal year 2023. The Department is exploring ways to make available a historic list of agreements in prior fiscal years.

A. Bureau of Land Management

The Bureau of Land Management has entered funding agreements with the following Tribes for fiscal year 2023:

• Council of Athabascan Tribal Governments; and

• Duckwater Shoshone Tribe of the Duckwater Reservation.

B. Bureau of Reclamation

The Bureau of Reclamation has entered funding agreements with the following Tribes for fiscal year 2023:

• Gila River Indian Community of the Gila River Indian Reservation;

• Hoopa Valley Tribe;

• Karuk Tribe; and

• Yurok Tribe of the Yurok Reservation.

C. Office of Natural Resources Revenue

The Office of Natural Resources Revenue has entered no funding agreements with any Tribes for fiscal year 2023.

D. National Park Service

The National Park Service has entered into funding agreements with the following Tribes for fiscal year 2023:

• Grand Portage Band of Lake Superior Chippewa Indians—Minnesota Chippewa Tribe and Grand Portage National Monument;

• Wyandotte Nation and River Raisin National Battlefield;

• Kawerak, Inc. and Bering Land Bridge National Preserve;

• Pueblo of Santa Clara and Valles Caldera National Preserve; and

• Yurok Tribe of the Yurok Reservation and Redwood National Park

E. Fish and Wildlife Service

The Fish and Wildlife Service has entered a funding agreement with the following Tribe for fiscal year 2023:

• Council of Athabascan Tribal Governments.

F. U.S. Geological Survey

The U.S. Geological Survey has entered no self-governance funding agreements with any Tribes for fiscal year 2023.

G. Bureau of Trust Fund Administration

The Bureau of Trust Fund Administration has entered a funding agreement with the following Tribe for fiscal year 2023:

• Confederated Salish and Kootenai Tribes of the Flathead Reservation.

H. Appraisal and Valuation Services Office

The Appraisal and Valuation Services Office has entered funding agreements with the following Tribes for fiscal year 2023:

• Quapaw Nation;

• Morongo Band of Mission Indians;

• Muckleshoot Indian Tribe;

• Pueblo of Taos;

• Confederated Tribes of the Umatilla Indian Reservation;

• Association of Village Council Presidents;

• Kawerak, Inc.;

• Native Village of Tanana;

• Tanana Chiefs Conference (includes Gwichyaa Gwich'in, aka Fort Yukon);

• Central Council of the Tlingit and Haida Indian Tribes;

• Cherokee Nation;

• The Choctaw Nation of Oklahoma;

• Eastern Shawnee Tribe of Oklahoma;

• The Muscogee (Creek) Nation;

• Wyandotte Nation;

• Oneida Nation;

• Confederated Salish and Kootenai Tribes of the Flathead Reservation;

• Lummi Tribe of the Lummi Reservation;

• Port Gamble S'Klallam Tribes;

• Confederated Tribes of Siletz Indians of Oregon;

• Hoopa Valley Tribe;

• Redding Rancheria;

• Chippewa Cree Indians of the Rocky Boy's Reservation;

• Absentee-Shawnee Tribe of Indians of Oklahoma;

• Citizen Potawatomi Nation, Oklahoma;

• Kaw Nation, Oklahoma;

• Sac and Fox Nation, Oklahoma;

• Salt River Pima-Maricopa Indian Community of the Salt River Reservation;

• Shoshone-Paiute Tribes of the Duck Valley Reservation, Nevada; and

• The Osage Nation.

V. Authority

This notice is published in the exercise of authority delegated by the Secretary of the Interior to the Assistant Secretary—Indian Affairs by 209 Departmental Manual 8.1.

Bryan Newland,
Assistant Secretary—Indian Affairs.

[FR Doc. 2023-17192 Filed 8-10-23; 8:45 am]

BILLING CODE 4337-15-P